DEPARTMENT OF THE TREASURY

Internal Revenue Service

26 CFR Part 1

[TD 9091]

RIN 1545-BC19

Special Depreciation Allowance; Correction

AGENCY: Internal Revenue Service (IRS), Treasury.

ACTION: Correction to temporary regulations.

SUMMARY: This document contains corrections to temporary regulations that were published in the Federal Register on Monday, September 8, 2003 (68 FR 52986), relating to the depreciation of property subject to section 168 of the Internal Revenue Code (MACRS property) and the depreciation of computer software subject to section 167.

DATES: These corrections are effective September 8, 2003.

FOR FURTHER INFORMATION CONTACT: Douglas Kim, (202) 622-3110 (not a toll-free number).

SUPPLEMENTARY INFORMATION:

Background

The temporary regulations that are the subject of these corrections are under sections 167, 168 and 1400L(b) of the Internal Revenue Code.

Need for Correction

As published, the temporary regulations contains errors that may prove to be misleading and are in need of clarification.

Correction of Publication

Accordingly, the publication of temporary regulations (TD 9091), that was the subject of FR Doc. 03-22670, is corrected as follows:

§ 1.167(a)-14T [Corrected]

1. On page 52991, column 2, § 1.167(a)-14T(e)(3), last line of the paragraph, the language, “September 8, 2006” is corrected to read “September 4, 2006”.

§ 1.168-1T [Corrected]

2. On page 52991, column 3, § 1.168(d)-1T(d)(2), last line of the paragraph, the language, “September 8, 2006” is corrected to read “September 4, 2006”.

3. On page 53001, column 2, § 1.168(k)-1T(f)(5)(iii)(A), last line of the paragraph, the language, “minimum tax purposes” is corrected to read “minimum tax purposes (for example, use the remaining carryover basis as determined for alternative minimum tax purposes).”

4. On page 53003, column 2, § 1.168(k)-1T(g)(1), last line of the paragraph, the language, “expires on September 8, 2006.” is corrected to read “expires on September 4, 2006.”

§ 1.169-3T [Corrected]

5. On page 53004, column 3, § 1.169-3T, last line of the paragraph, the language, “September 8, 2003.” is corrected to read “September 4, 2006.”

§ 1.1400L(b)-1T [Corrected]

6. On page 53006, column 2, § 1.1400L(b)-1T(g)(1), last line of the paragraph, the language, “expires on September 8, 2006.” is corrected to read “expires on September 4, 2006.”

Cynthia E. Grigsby,
Acting Chief, Publications and Regulations Branch, Legal Processing Division, Associate Chief Counsel (Procedure and Administration).

[FR Doc. 03-28201 Filed 11-7-03; 8:45 am]

BILLING CODE 4830-01-P